FEDERAL ELECTION COMMISSION

[NOTICE 2023—15]

Filing Dates for the California Senate Special Election

AGENCY: Federal Election Commission.

ACTION: Notice of filing dates for special election.

SUMMARY: California has scheduled special elections on March 5, 2024, and November 5, 2024, to fill the remainder of the late Senator Dianne Feinstein's unexpired U.S. Senate term, which ends on January 3, 2025. Committees required to file reports in connection with the Special Primary Election on March 5, 2024, shall file a 12-day Pre-Primary Report. Committees required to file reports in connection with both the Special Primary and Special General Election on November 5, 2024, shall file a 12-day Pre-Primary, a 12-day Pre-General, and a 30-day Post-General Report.

FOR FURTHER INFORMATION CONTACT: Ms. Elizabeth S. Kurland, Information Division, 1050 First Street NE, Washington, DC 20463; Telephone: (202) 694-1100; Toll Free (800) 424-9530.

SUPPLEMENTARY INFORMATION:

Principal Campaign Committees

All principal campaign committees of candidates who participate in the California Special Primary and Special General Elections shall file a 12-day Pre-Primary Report on February 22, 2024; a 12-day Pre-General Report on October 24, 2024; and a 30-day Post-General Report on December 5, 2024. (See charts below for the closing date for each report.)

Note that these reports are in addition to the campaign committee's regular quarterly filings. (See charts below for the closing date for each report).

Unauthorized Committees (PACs and Party Committees)

Political committees not filing monthly are subject to special election reporting if they make previously undisclosed contributions or expenditures in connection with the California Special Primary or Special General Election by the close of books for the applicable report(s). (See charts below for the closing date for each report.)

Committees filing monthly that make contributions or expenditures in connection with the California Special Primary or Special General Elections will continue to file according to the monthly reporting schedule.

Additional disclosure information for the California special elections may be found on the FEC website at https://www.fec.gov/help-candidates-and-committees/dates-and-deadlines/.

Disclosure of Lobbyist Bundling Activity

Principal campaign committees, party committees and leadership PACs that are otherwise required to file reports in connection with the special elections must simultaneously file FEC Form 3L if they receive two or more bundled contributions from lobbyists/registrants or lobbyist/registrant PACs that aggregate in excess of the lobbyist bundling threshold during the special election reporting periods. (See charts below for closing date of each period.) 11 CFR 104.22(a)(5)(v), (b), 110.17(e)(2), (f).

The lobbyist bundling disclosure threshold for calendar year 2023 is $21,800. This threshold amount may change in 2024 based upon the annual cost of living adjustment (COLA). As soon as the adjusted threshold amount is available, the Commission will publish it in the Federal Register and post it on its website. 11 CFR 104.22(g) and 110.17(e)(2).

Calendar of Reporting Dates for California Special Elections
Report | Close of books ¹ | Reg./cert. & overnight mailing deadline | Filing deadline
Political Committees Involved in Only the Special Primary (03/05/2024) Must File:
Pre-Primary | 02/14/2024 | ² 02/19/2024 | 02/22/2024
April Quarterly | 03/31/2024 | 04/15/2024 | 04/15/2024
Political Committees Involved in Both the Special Primary (03/05/2024) and the Special General (11/05/2024) Must File:
Pre-Primary | 02/14/2024 | ² 02/19/2024 | 02/22/2024
April Quarterly | 03/31/2024 | 04/15/2024 | 04/15/2024
July Quarterly | 06/30/2024 | 07/15/2024 | 07/15/2024
October Quarterly | 09/30/2024 | 10/15/2024 | 10/15/2024
Pre-General | 10/16/2024 | 10/21/2024 | 10/24/2024
Post-General | 11/25/2024 | 12/05/2024 | 12/05/2024
Year-End | 12/31/2024 | 01/31/2025 | 01/31/2025
Political Committees Involved in Only the Special General (11/05/2024) Must File:
Pre-General | 10/16/2024 | 10/21/2024 | 10/24/2024
Post-General | 11/25/2024 | 12/05/2024 | 12/05/2024
Year-End | 12/31/2024 | 01/31/2025 | 01/31/2025
¹ The reporting period always begins the day after the closing date of the last report filed. If the committee is new and has not previously filed a report, the first report must cover all activity that occurred before the committee registered as a political committee up through the close of books for the first report due.
² Notice that the registered/certified & overnight mailing deadline falls on a weekend or federal holiday. The report should be postmarked before that date.

Dated: October 10, 2023.
On behalf of the Commission,
Dara S. Lindenbaum,
Chair, Federal Election Commission.

[FR Doc. 2023-22669 Filed 10-12-23; 8:45 am]

BILLING CODE 6715-01-P